DEPARTMENT OF COMMERCE

Bureau of Industry and Security

15 CFR Part 744

[Docket No. 140429382-4382-01]

RIN 0694-AG16

Addition of Certain Persons to the Entity List

Correction

In rule document 2014-17196, beginning on page 42452 in the issue of Tuesday, July 22, 2014, make the following correction:

Supplement No. 4 to Part 744—Entity List [Corrected]

On page 42458, in Supplement No. 4 to Part 744, in the table, beginning with the row in which the entry in the first column reads “UKRAINE”, the table should appear as follows:

UKRAINE | * * * * * *
| Donetsk People's Republic, Donetsk Region, Ukraine | For all items subject to the EAR. (See § 744.11 of the EAR). | Presumption of denial | 79 FR [INSERT FR PAGE NUMBER] 7/22/14.
| * * * * * *
| Feodosiya Enterprise, a.k.a., the following four aliases: | For all items subject to the EAR. (See § 744.11 of the EAR). | Presumption of denial | 79 FR [INSERT FR PAGE NUMBER] 7/22/14.
| Feodosia Oil Products Supply Co.; and
| —Feodosiya Enterprise on Providing Oil Products; and
| —Feodosiyske Company for the Oil; and
| —Theodosiya Oil Terminal.
| Feodosiya, Geologicheskaya str. 2, Crimea 98107, Ukraine; and
| Feodosia, Str. Geological 2, Crimea 98107, Ukraine (See alternate addresses under Crimea (Occupied)).
| * * * * * *
| Luhansk People's Republic, a.k.a., the following two aliases: | For all items subject to the EAR. (See § 744.11 of the EAR). | Presumption of denial | 79 FR [INSERT FR PAGE NUMBER] 7/22/14.
| —Lugansk People's Republic
| —People's Republic of Luhansk.
| Luhansk Region, Ukraine.
| * * * * * *
| * * * * * * *

[FR Doc. C1-2014-17196 Filed 6-18-15; 8:45 am]

BILLING CODE 1505-01-D